DEPARTMENT OF HEALTH AND HUMAN SERVICES

Centers for Disease Control and Prevention

[60Day-04-63]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333 or send an e-mail to omb@cdc.gov. Written comments should be received within 60 days of this notice.

Proposed Project

Assessment of Healthcare-associated Adverse Events—New—National Center for Infectious Diseases (NCID), Centers for Disease Control and Prevention (CDC).

CDC, National Center for Infectious Diseases, Division of Healthcare Quality Promotion (DHQP) disseminates notices and alerts through a voluntary electronic mail subscriber list (i.e., Rapid Notification System) to inform healthcare personnel about healthcare-associated disease outbreaks and clusters or adverse events that may be of national importance, and recommendations for preventing infections and antimicrobial resistance.

DHQP is occasionally involved in gathering information to determine if a recognized adverse event (e.g., an infection following the use of a particular product, type of equipment, or with a microorganism that has rarely been reported) has occurred on a national level in healthcare facilities. The information gained would be used to target corrective actions or educational strategies to improve the public's health by preventing future adverse events.

To rapidly determine the scope of adverse events at the time soon after a public health notification or product recall, DHQP seeks to conduct short surveys using OMB approved questions among participants in the Rapid Notification System, National Nosocomial Infection Surveillance (NNIS), and other CDC networks. The survey will also be posted on the CDC website to reach additional healthcare professionals. The number of questions in each survey will range from five to 10. Data will be collected using a Web-based data collection form. There will be no costs to the respondents. The burden estimate is based on three surveys per year. The table below shows the estimated annual burden of hours to complete the survey.

Annualized Burden Table:

Title | Number of respondents | Number of responses/ respondent | Average burden/response (in hrs.) | Total burden hours
Assessment of healthcare-associated adverse events | 2,500 | 1 | 10/60 | 417
Total | 2,500 |  |  | 417

Dated: June 7, 2004.
Bill J. Atkinson,
Acting Director, Management Analysis and Services Office, Centers for Disease Control and Prevention.

[FR Doc. 04-13262 Filed 6-10-04; 8:45 am]

BILLING CODE 4163-18-P